DEPARTMENT OF LABOR

Employment and Training Administration

Virtual Public Meeting of the Advisory Committee on Apprenticeship (ACA)

AGENCY: Employment and Training Administration (ETA), Labor.

ACTION: Notice of a virtual public meeting.

SUMMARY: Pursuant to the Federal Advisory Committee Act (FACA), notice is hereby given to announce a public meeting of the ACA to be held virtually on Tuesday, September 27, 2022. All meetings of the ACA are open to the public.

DATES: The meeting will begin at approximately 1 p.m. Eastern Daylight Time at https://usdolevents.webex.com/usdolevents/j.phpMTID=m9024b2c60c3fd1e6a9d19c63c34a1e7a and adjourn at approximately 5 p.m. Any updates to the agenda and meeting logistics will be posted on the Office of Apprenticeship's website at: https://www.apprenticeship.gov/advisory-committee-apprenticeship/meetings.

FOR FURTHER INFORMATION CONTACT: The Designated Federal Officer, Mr. John V. Ladd, Administrator, Office of Apprenticeship, Employment and Training Administration, U.S. Department of Labor, 200 Constitution Avenue NW, Room C-5321, Washington, DC 20210; Email: AdvisoryCommitteeonApprenticeship@dol.gov; Telephone: (202) 693-2796 (this is not a toll-free number).

SUPPLEMENTARY INFORMATION: The ACA is a discretionary committee reestablished by the Secretary of Labor on May 4, 2021, in accordance with FACA (5 U.S.C. App. 2 section 10), as amended in 5 U.S.C. App. 2, and its implementing regulations (41 CFR 101-6 and 102-3). The first meeting of the ACA was held on Wednesday, October 6, 2021; the second meeting of the ACA was held on Wednesday, January 26, 2022; and the third meeting of the ACA was held on Monday, May 16, 2022.

Instructions To Attend the Meeting

All meetings are open to the public. To promote greater access, webinar and audio conference technology will be used to support public participation in the meeting. The login instructions outlined below will also be posted prominently on the Office of Apprenticeship's website at: https://www.apprenticeship.gov/advisory-committee-apprenticeship/meetings. If individuals have special needs and/or disabilities that will require special accommodations, please contact Kenya Huckaby at (202) 693-3795 or via email at huckaby.kenya@dol.gov no later than Tuesday, September 20, 2022.

Virtual Log-In Instructions: All meeting participants will join the meeting virtually using the link below. Please use the access code if you are joining by phone and use the event password if you are joining by computer.

Link: https://usdolevents.webex.com/usdolevents/j.php?MTID=m9024b2c60c3fd1e6a9d19c63c34a1e7a.

Telephone Users: VoIP or dial 877-465-7975; Access code: 2761 047 54.

Computer Users: Event password: Welcome!24.

Any member of the public who wishes to file written data or comments pertaining to the agenda may do so by sending the data or comments to Mr. John V. Ladd via email at AdvisoryCommitteeonApprenticeship@dol.gov using the subject line “September 2022 ACA Meeting.” Such submissions will be included in the record for the meeting if received by Tuesday, September 20, 2022. See below regarding members of the public wishing to speak at the ACA meeting.

Purpose of the Meeting and Topics To Be Discussed

The primary purpose of the August meeting is to provide the ACA with Departmental updates on the ACA's May 2022 recommendations to the Department and discuss apprenticeship priorities for the upcoming year. Anticipated agenda topics for this meeting include the following:

• Call to Order

• Remarks from ETA Leadership

• Update on ACA Interim Report

• ACA Year Two Planning

• Subcommittee Breakouts

• Subcommittee Report Outs

• Public Comment

• Adjourn

The agenda and meeting logistics may be updated should priority items come before the ACA between the time of this publication and the scheduled date of the ACA meeting. All meeting updates will be posted to the Office of Apprenticeship's website at: https://www.apprenticeship.gov/advisory-committee-apprenticeship/meetings. Any member of the public who wishes to speak at the meeting should indicate the nature of the intended presentation and the amount of time needed by furnishing a written statement to the Designated Federal Officer, Mr. John V. Ladd, via email at AdvisoryCommitteeonApprenticeship@dol.gov, by Tuesday, September 20, 2022. The Chairperson will announce at the beginning of the meeting the extent to which time will permit the granting of such requests.

Brent Parton,
Acting Assistant Secretary for Employment and Training, Labor.

[FR Doc. 2022-17857 Filed 8-18-22; 8:45 am]

BILLING CODE 4510-FR-P